FEDERAL ELECTION COMMISSION

11 CFR Part 100

[Notice 2019-02]

Definition of Contribution; Extension of Comment Period

AGENCY: Federal Election Commission.

ACTION: Extension of comment period.

SUMMARY: On January 31, 2019, the Federal Election Commission extended the comment period on the Notification of Availability for the Rulemaking Petition: Definition of Contribution (“NOA”), which sought comment on whether to begin a rulemaking to revise its regulations defining the term “contribution” in light of a recent district court decision in Citizens for Responsibility and Ethics in Washington v. Federal Election Commission. The Commission has decided to extend the comment period in light of the recent partial government shutdown.

DATES: The comment period for the NOA published December 3, 2018 (83 FR 62282) is extended. Comments must be received on or before March 4, 2019.

ADDRESSES: All comments must be in writing. Commenters are encouraged to submit comments electronically via the Commission's website at http://www.fec.gov/fosers, reference REG 2018-03. Alternatively, commenters may submit comments in paper form, addressed to the Federal Election Commission, Attn.: Robert M. Knop, Assistant General Counsel, 1050 First Street NE, Washington, DC 20463.

Each commenter must provide, at a minimum, his or her first name, last name, city, and state. All properly submitted comments, including attachments, will become part of the public record, and the Commission will make comments available for public viewing on the Commission's website and in the Commission's Public Records Office. Accordingly, commenters should not provide in their comments any information that they do not wish to make public, such as a home street address, personal email address, date of birth, phone number, social security number, driver's license number, or any information that is restricted from disclosure, such as trade secrets or commercial or financial information that is privileged or confidential.

FOR FURTHER INFORMATION CONTACT: Mr. Robert M. Knop, Assistant General Counsel, or Mr. Kevin M. Paulsen, Attorney, 1050 First Street NE, Washington, DC 20463, (202) 694-1650 or (800) 424-9530.

SUPPLEMENTARY INFORMATION: On December 3, 2018, the Federal Election Commission opened the comment period on the NOA published in the Federal Register seeking comment on whether to begin a rulemaking to revise its regulations at 11 CFR 100.52 defining the term “contribution” in light of a recent district court decision in Citizens for Responsibility and Ethics in Washington v. Federal Election Commission.¹ The comment period was scheduled to close at 11:59 p.m. on February 1, 2019; however, due to the recent partial government shutdown, the Commission has determined to extend the comment period for thirty days, to close at 11:59 p.m. on March 4, 2019.

¹ See Rulemaking Petition: Definition of Contribution, 83 FR 62282 (Dec. 3, 2018).

On behalf of the Commission.
Dated: January 31, 2019.
Ellen L. Weintraub,
Chair, Federal Election Commission.

[FR Doc. 2019-01194 Filed 2-5-19; 8:45 am]

BILLING CODE 6715-01-P